NATIONAL SCIENCE FOUNDATION

Advisory Panel for Integrative Activities; Notice of Meeting

In accordance with the Federal Advisory Committee Act (Pub. L. 92-463, as amended), the National Science Foundation announces the following meeting:

Name: Committee of Visitors Panel for the Experimental Program to Stimulate Competitive Research Science and Technology Centers (STC) #1373.

Dates: May 16, 2011; 6 p.m.-8 p.m. May 17, 2011; 8:30 a.m.-5 p.m. May 18, 2011; 8 a.m.-4 p.m.

Place: National Science Foundation, 4201 Wilson Blvd., Arlington, VA 22230.

Type of Meeting: Partially Open.

Contact Person: Dr. Dragana Brzakovic, Senior Staff Associate, Office of Integrative Activities, National Science Foundation, Suite 935, 4201 Wilson Blvd., Arlington, VA 22230, (703) 292-8040.

Purpose of Meeting: To carry out Committee of Visitors (COV) review, including examination of decisions on proposals, reviewer comments, and other privileged materials.

Agenda

May 16, 2011

6 p.m.-8 p.m. Open Session; Welcome, overview of STC program.

May 17, 2011

8:30 a.m.-5 p.m. Closed Session; Review and Evaluation of Program.

May 18, 2011

8 a.m.-3 p.m. Closed Session; Review, evaluation, and report writing.

3 p.m.-4 p.m. Open Session; Presentation of report.

Reason for Closing: Certain sessions of the meeting are closed to the public because the Committee is reviewing proposal actions that will include privileged intellectual property and personal information that could harm individuals if they are disclosed. If discussions were open to the public, these matters that are exempt under 5 U.S.C. 552b(c), (4) and (6) of the Government in the Sunshine Act would be improperly disclosed.

Dated: April 8, 2011.
Susanne Bolton,
Committee Management Officer.

[FR Doc. 2011-8797 Filed 4-12-11; 8:45 am]

BILLING CODE 7555-01-P